DEPARTMENT OF DEFENSE

GENERAL SERVICES ADMINISTRATION

NATIONAL AERONAUTICS AND SPACE ADMINISTRATION

48 CFR Parts 1 and 53

[FAC 2001-06; FAR Case 2000-012; Item I]

RIN 9000-AJ31

Federal Acquisition Regulation; Commercial Items—Standard Form 1449

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to update Standard Form 1449, Solicitation/Contract/Order for Commercial Items.

DATES: Effective Date: April 4, 2002.

FOR FURTHER INFORMATION CONTACT: The FAR Secretariat, Room 4035, GS Building, Washington, DC 20405, (202) 501-4755, for information pertaining to status or publication schedules. For clarification of content, contact Ms. Victoria Moss, Procurement Analyst, at (202) 501-4764. Please cite FAC 2001-06, FAR case 2000-012.

SUPPLEMENTARY INFORMATION:

A. Background

Standard Form 1449, Solicitation/Contract/Order for Commercial Items, is prescribed by the FAR for the acquisition of commercial items. This final rule makes several minor revisions to the form, including the addition of a block to indicate that the acquisition is a HUBZone set-aside, the substitution of a NAICS code for the SIC code, the notation that award is made only on the offeror's items specifically listed in block 29, and the addition of several blocks in the area of the form used as a receiving report by the Government. None of the changes involve blocks that are completed by the public.

This is not a significant regulatory action, and therefore, was not subject to review under Section 6(b) of Executive Order 12866, Regulatory Planning and Review, dated September 30, 1993. This rule is not a major rule under 5 U.S.C. 804.

B. Regulatory Flexibility Act

This final rule does not constitute a significant FAR revision within the meaning of FAR 1.501 and Public Law 98-577, and publication for public comments is not required. However, the Councils will consider comments from small entities concerning the affected FAR parts 1 and 52 in accordance with 5 U.S.C. 610. Interested parties must submit such comments separately and should cite 5 U.S.C. 601, et seq. (FAC 2001-06, FAR case 2000-012), in correspondence.

C. Paperwork Reduction Act

The Paperwork Reduction Act does not apply because these changes to the FAR do not impose additional information collection requirements to the paperwork burden previously approved under OMB Control Number 9000-0136. The previous edition of the form indicated that the public reporting burden related to the form had been cleared under OMB No. 9000-0136. That statement has been removed from this edition because OMB Clearance 9000-0136 covers information collections unique to commercial item acquisition. It does not cover the information required by this form. This form is primarily completed by the Government. The contractor/offeror fills in only its name, address, and proposed prices. Those pieces of information do not require clearance in the FAR under the Paperwork Reduction Act. Office of Management and Budget Number 9000-0136 remains valid for the other information collection requirements related to the acquisition of commercial items.

List of Subjects in 48 CFR Parts 1 and 53

Government procurement.

Dated: March 6, 2002.
Al Matera,
Director, Acquisition Policy Division.

Therefore, DoD, GSA, and NASA amend 48 CFR parts 1 and 53 as set forth below:

1. The authority citation for 48 CFR parts 1 and 53 continues to read as follows:

Authority: 40 U.S.C. 486(c); 10 U.S.C. chapter 137; and 42 U.S.C. 2473(c).

PART 1—FEDERAL ACQUISITION REGULATIONS SYSTEM

1.106 [Amended]

2. Amend section 1.106 in the table by removing the FAR segment “SF 1449” and its corresponding OMB Control Number “9000-0136”.

PART 53—FORMS

53.212 [Amended]

3. Amend section 53.212 by removing “(OCT 1995)” and adding “(Rev. 4/02)” in its place.

53.213 [Amended]

4. Amend section 53.213 in paragraph (a) and the introductory text of paragraph (f) by removing “(10/95 Ed.)” and adding “(Rev. 4/02)” in its place.

5. Revise section 53.301-1449 to read as follows.

53.301-1449 Solicitation/Contract/Order for Commercial Items.

BILLING CODE 6820-EP-P

[FR Doc. 02-5820 Filed 3-19-02; 8:45 am]

BILLING CODE 6820-EP-C